Notice of June 30, 2001

Continuation of Emergency With Respect to the Taliban

On July 4, 1999, the President issued Executive Order 13129, “Blocking Property and Prohibiting Transactions with the Taliban,” to deal with the unusual and extraordinary threat to the national security and foreign policy of the United States posed by the actions and policies of the Taliban in Afghanistan. The order blocks all property and interests in property of the Taliban and prohibits trade-related transactions by United States persons involving the territory of Afghanistan controlled by the Taliban. The last notice of continuation was signed on June 30, 2000.

The Taliban continues to allow territory under its control in Afghanistan to be used as a safe haven and base of operations for Usama bin Laden and the al-Qaida organization who have committed and threaten to continue to commit acts of violence against the United States and its nationals. For these reasons, I have determined that it is necessary to maintain in force these emergency authorities beyond July 4, 2001. Therefore, in accordance with section 202(d) of the National Emergencies Act (50 U.S.C. 1622(d)), I am continuing the national emergency declared on July 4, 1999, with respect to the Taliban. This notice shall be published in the Federal Register and transmitted to the Congress.

B

THE WHITE HOUSE,

June 30, 2001.

[FR Doc. 01-16912

Filed 7-2-01; 10:52 am]

Billing code 3195-01-P